DEPARTMENT OF THE INTERIOR

The Bureau of Ocean Energy Management, Regulation and Enforcement

Environmental Documents Prepared for Proposed Oil, Gas, and Mineral Operations by the Gulf of Mexico Outer Continental Shelf (OCS) Region

AGENCY: The Bureau of Ocean Energy Management, Regulation and Enforcement, Interior.

ACTION: Notice of the Availability of Environmental Documents Prepared for OCS Mineral Proposals by the Gulf of Mexico OCS Region.

SUMMARY: The Bureau of Ocean Energy Management, Regulation and Enforcement (BOEMRE), in accordance with Federal Regulations that implement the National Environmental Policy Act (NEPA), announces the availability of NEPA-related Site-Specific Environmental Assessments (SEA) and Findings of No Significant Impact (FONSI), prepared by BOEMRE for the following oil-, gas-, and mineral-related activities proposed on the Gulf of Mexico.

FOR FURTHER INFORMATION CONTACT: Public Information Unit, Information Services Section at the number below. Bureau of Ocean Energy Management, Regulation and Enforcement, Gulf of Mexico OCS Region, Attention: Public Information Office (MS 5034), 1201 Elmwood Park Boulevard, Room 250, New Orleans, Louisiana 70123-2394, or by calling 1-800-200-GULF.

SUPPLEMENTARY INFORMATION: The BOEMRE prepares SEAs and FONSIs for proposals that relate to exploration, development, production, and transport of oil, gas, and mineral resources on the Federal OCS. These SEAs examine the potential environmental effects of activities described in the proposals and present BOEMRE conclusions regarding the significance of those effects. Environmental Assessments are used as a basis for determining whether or not approval of the proposals constitutes a major Federal action that significantly affects the quality of the human environment in accordance with NEPA Section 102(2)(C). A FONSI is prepared in those instances where BOEMRE finds that approval will not result in significant effects on the quality of the human environment. The FONSI briefly presents the basis for that finding and includes a summary or copy of the SEA. This notice constitutes the public notice of availability of environmental documents required under the NEPA Regulations.

Activity/Operator | Location | Date
Marathon Oil Company, Exploration Plan, SEA R-5149 | Ewing Bank Areas, Blocks 873, 917, 961 & 1005, respectively, located south of Louisiana in the Central Planning Area of the Gulf of Mexico | 4/4/2011
TGS-NOPEC, Geophysical Company, Geological & Geophysical Survey, SEA L10-050 | Located in the Central Planning Area of the Gulf of Mexico | 4/4/2011
Shell Exploration and Production Company, Exploration Plan, SEA R-5140 | Located in the Central Planning Area of the Gulf of Mexico | 4/4/2011
Apex Oil & Gas, Inc., Structure Removal, SEA ES/SR 11-086 | Vermilion, Block 69, Lease OCS-G 21591, located 20 miles from the nearest Louisiana shoreline | 4/5/2011
Remington Oil and Gas Corporation, Structure Removal, SEA ES/SR 11-026 | Vermilion, Block 83, Lease OCS-G 23667, located 24 miles from the nearest Louisiana shoreline | 4/5/2011
NCX Company, Inc., Structure Removal, SEA ES/SR 10-121 | Eugene Island, Block 349, Lease OCS-G 02322, located 82 miles from the nearest Louisiana shoreline | 4/7/2011
Apache Corporation, Structure Removal, SEA ES/SR 06-077A | East Cameron, Block 171, Lease OCS-G 12836, located 53 miles from the nearest Louisiana shoreline | 4/8/2011
Maritech Resources, Inc., Structure Removal, SEA ES/SR 11-057 | Eugene Island, Block 116, Lease OCS-G 00478, located 30 miles from the nearest Louisiana shoreline | 4/11/2011
Hilcorp Energy GOM, LLC, Geological & Geophysical Survey, SEA L11-001 | Located in the Central Planning Area of the Gulf of Mexico | 4/13/2011
Shell Offshore, Inc., Geological & Geophysical Survey, SEA L11-002 | Located in the Central Planning Area of the Gulf of Mexico | 4/13/2011
TGS-NOPEC Geophysical Company, Geological & Geophysical Survey, SEA L11-007 | Located in the Central Planning Area of the Gulf of Mexico | 4/13/2011
EMGS Americas Inc., Geological & Geophysical Survey, SEA M09-013 | Located in the Eastern Planning Area of the Gulf of Mexico | 4/13/2011
SPN Resources, LLC, Structure Removal, SEA ES/SR 07-161A | Mobile, Block 861, Lease OCS-G 05062, located 7 miles from the nearest Alabama shoreline | 4/18/2011
Mariner Gulf of Mexico LLC, Structure Removal, SEA ES/SR 11-096 | High Island, Block 175, Lease OCS-G 17150, located 28 miles from the nearest Texas shoreline | 4/20/2011
Mariner Energy, Inc., Structure Removal, SEA ES/SR 11-084 & 11-085 | High Island, Block 469A, Lease OCS-G 02689, located 95 miles from the nearest Texas shoreline | 4/20/2011
Maritech Resources, Inc., Structure Removal, SEA ES/SR 11-087 | Eugene Island, Block 128, Lease OCS-G 00053, located 30 miles from the nearest Louisiana shoreline | 4/21/2011
McMoRan Oil & Gas LLC, Structure Removal, SEA ES/SR 11-090 | West Cameron, Block 617, Lease OCS-G 13852, located 90 miles from the nearest Louisiana shoreline | 4/21/2011
Maritech Resources, Inc., Structure Removal, SEA ES/SR 11-106 | Brazos, Block 397, Lease OCS-G 09012, located 16 miles from the nearest Texas shoreline | 4/25/2011
XTO Offshore Inc., Structure Removal, SEA ES/SR 11-094 | South Timbalier, Block 254, Lease OCS-G 23936, located 55 miles from the nearest Louisiana shoreline | 4/25/2011
Energy Partners, Ltd., Structure Removal, SEA ES/SR 11-093 | South Timbalier, Block 46, Lease OCS-G 24955, located 12 miles from the nearest Louisiana shoreline | 4/25/2011
Apache Corporation, Structure Removal, SEA ES/SR 11-095 | West Cameron, Block 71, Lease OCS-G 00244, located 11 miles from the nearest Louisiana shoreline | 4/25/2011
Maritech Resources, Inc., Structure Removal, SEA ES/SR 11-082 | Eugene Island, Block 129, Lease OCS-G 30029, located 30 miles from the nearest Louisiana shoreline | 5/3/2011
Merit Energy Company, LLC, Structure Removal, SEA ES/SR 11-083 | Vermilion, Block 386, Lease OCS-G 02278, located 103 miles from the nearest Louisiana shoreline | 5/3/2011
Maritech Resources, Inc., Structure Removal, SEA ES/SR 11-105 | Brazos, Block 396, Lease OCS-G 10213, located 17 miles from the nearest Texas shoreline | 5/4/2011
Mariner Energy, Inc., Structure Removal, SEA ES/SR 11-034 | High Island, Block A287, Lease OCS-G 25601, located 93 miles from the nearest Texas shoreline | 5/4/2011
McMoRan Oil & Gas LLC, Structure Removal, SEA ES/SR 11-089 | Eugene Island, Block 352, Lease OCS-G 03410, located 90 miles from the nearest Louisiana shoreline | 5/5/2011
Mariner Energy, Inc., Structure Removal, SEA ES/SR 11-112 | High Island, Block 46, Lease OCS-G 24404, located 26 miles from the nearest Texas shoreline | 5/5/2011
CGGVeritas, Geological & Geophysical Survey, SEA L11-003 | Located in the Central and Western Planning Areas of the Gulf of Mexico | 5/5/2011
Stone Energy Corporation, Structure Removal, SEA ES/SR 11-114 | South Pelto, Block 15, Lease OCS-G 9652, located 10 miles from the nearest Louisiana shoreline | 5/5/2011
Energy Partners, Ltd., Structure Removal, SEA ES/SR 11-113 | Vermilion, Block 101, Lease OCS-G 27061, located 27 miles from the nearest Louisiana shoreline | 5/5/2011
GOM Shelf LLC, Structure Removal, SEA ES/SR 11-109 | Grand Isle, Block 43, Lease OCS-G 00175, located 21 miles from the nearest Louisiana shoreline | 5/6/2011
Mariner Energy, Inc., Structure Removal, SEA ES/SR 11-118 | High Island, Block A416, Lease OCS-G 15794, located 71 miles from the nearest Louisiana shoreline | 5/6/2011
Mariner Gulf of Mexico LLC, Structure Removal, SEA ES/SR 11-124 | High Island, Block A7, Lease OCS-G 15781, located 28 miles from the nearest Louisiana shoreline | 5/6/2011
CGGVeritas, Geological & Geophysical Survey, SEA L11-004 | Located in the Central and Eastern Planning Areas of the Gulf of Mexico | 5/6/2011
Union Oil Company of California, Structure Removal, SEA ES/SR 11-131 | Mobile, Block 917, Lease OCS-G 05754, located 8 miles from the nearest Mississippi shoreline | 5/6/2011
Chevron U.S.A. Inc., Structure Removal, SEA ES/SR 11-129 | West Cameron, Block 54, Lease OCS-G 22501, located 4 miles from the nearest Louisiana shoreline | 5/6/2011
GOM Shelf LLC, Structure Removal, SEA ES/SR 11-111 | West Delta, Block 70, Lease OCS-G 00182, located 23 miles from the nearest Louisiana shoreline | 5/6/2011
Forest Oil Corporation, Structure Removal, SEA ES/SR 11-119 | East Cameron, Block 14, Lease OCS-G 13572, located 6 miles from the nearest Louisiana shoreline | 5/9/2011
Forest Oil Corporation, Structure Removal, SEA ES/SR 11-117 | Matagorda Island, Block 566, Lease OCS-G 23654, located 77 miles from the nearest Texas shoreline | 5/9/2011
Apache Corporation, Structure Removal, SEA ES/SR 11-125, 11-126 & 11-127 | South Marsh Island, Block 33, Lease OCS-G 00780, located 43 miles from the nearest Louisiana shoreline | 5/9/2011
LLOG Exploration Offshore, L.L.C., Structure Removal, SEA ES/SR 11-138 | Eugene Island, Block 113B, Lease OCS-G 22662, located 34 miles from the nearest Louisiana shoreline | 5/10/2011
ATP Oil & Gas Corporation, Structure Removal, SEA ES/SR 11-147 | South Timbalier, Block 48, Lease OCS-G 14518, located 100 miles from the nearest Louisiana shoreline | 5/10/2011
Forest Oil Corporation, Structure Removal, SEA ES/SR 11-128 | Eugene Island, Block 255, Lease OCS-G 10742, located 46 miles from the nearest Louisiana shoreline | 5/11/2011
Apache Corporation, Structure Removal, SEA ES/SR 11-123 | Eugene Island, Block 43, Lease OCS-G 17958, located 10 miles from the nearest Louisiana shoreline | 5/11/2011
GOM Shelf LLC, Structure Removal, SEA ES/SR 11-110 | Grand Isle, Block 47, Lease OCS 00133, located 18 miles from the nearest Louisiana shoreline | 5/11/2011
Chevron U.S.A. Inc., Structure Removal, SEA ES/SR 11-130 | Main Pass, Block 40, Lease OCS 00373, located 15 miles from the nearest Louisiana shoreline | 5/11/2011
Apache Corporation, Structure Removal, SEA ES/SR 11-116 | South Marsh Island, Block 81, Lease OCS-G 19774, located 76 miles from the nearest Louisiana shoreline | 5/11/2011
LLOG Exploration Offshore, L.L.C., Structure Removal, SEA ES/SR 11-137 | Breton Sound, Block 41, Lease OCS-G 21142, located 24 miles from the nearest Louisiana shoreline | 5/12/2011
Walter Oil & Gas Corporation, Structure Removal, SEA ES/SR 11-136 | High Island, Block A-539, Lease OCS-G 22262, located 95 miles from the nearest Texas shoreline | 5/12/2011
Chevron U.S.A. Inc., Structure Removal, SEA ES/SR 11-132, 11-133, 11-134 & 11-135 | South Marsh Island, Block 218, Lease OCS 00310, located 8 miles from the nearest Louisiana shoreline | 5/12/2011
McMoRan Oil & Gas LLC, Structure Removal, SEA ES/SR 11-088 | West Cameron, Block 618, Lease OCS-G 30063, located 120 miles from the nearest Louisiana shoreline | 5/12/2011
HC Resources, LLC, Structure Removal, SEA ES/SR 10-86A & 10-87A | Chandeleur, Block 116, Lease OCS-G 10917, located 35 miles from the nearest Louisiana shoreline | 5/13/2011
Energy Resource Technology GOM, Inc., Structure Removal, SEA ES/SR 11-153 | South Marsh Island, Block 107, Lease OCS-G 02130, located 73 miles from the nearest Louisiana shoreline | 5/13/2011
Mariner Energy, Inc., Structure Removal, SEA ES/SR 11-097 | West Cameron, Block 111, Lease OCS-G 21535, located 18 miles from the nearest Louisiana shoreline | 5/13/2011
Apache Corporation, Structure Removal, SEA ES/SR 11-120, 11-121 & 11-122 | West Cameron, Block 205, Lease OCS-G 23635, located 33 miles from the nearest Louisiana shoreline | 5/13/2011
Maritech Resources, Inc., Structure Removal, SEA ES/SR 11-115 & 95-072A | Eugene Island, Block 116, Lease 00478, located 30 miles from the nearest Louisiana shoreline | 5/17/2011
Dynamic Offshore Resources, LLC, Structure Removal, SEA ES/SR 11-149 & 11-150 | Mobile, Block 864, Lease OCS-G 05064, located 7 miles from the nearest Alabama shoreline | 5/17/2011
LLOG Exploration Offshore, L.L.C., Structure Removal, SEA ES/SR 11-151 | Vermilion, Block 344, Lease OCS-G 25995, located 91 miles from the nearest Louisiana shoreline | 5/17/2011
Apache Corporation, Structure Removal, SEA ES/SR 10-024A | Eugene Island, Block 380, Lease OCS-G 02327, located 95 miles from the nearest Louisiana shoreline | 5/24/2011
Walter Oil & Gas Corporation, Structure Removal, SEA ES/SR 11-155 | South Timbalier, Block 260, Lease OCS-G 12037, located 45 miles from the nearest Louisiana shoreline | 5/24/2011
Cobalt International Energy, LP, Exploration Plan, SEA R-5081 | Green Canyon, Block 813, located 130 miles from the nearest Louisiana shoreline, south of Morgan City, Louisiana | 5/26/2011
Nippon Oil Exploration U.S.A. Limited, Structure Removal, SEA ES/SR 11-013 | West Cameron, Block 587, Lease OCS-G 02021, located 109 miles from the nearest Louisiana shoreline | 5/26/2011
Nippon Oil Exploration U.S.A. Limited, Structure Removal, SEA ES/SR 11-014 | West Cameron, Block 587, Lease OCS-G 02021, located 109 miles from the nearest Louisiana shoreline | 5/26/2011
EOG Resources, Inc., Structure Removal, SEA ES/SR 11-173 | Eugene Island, Block 135, Lease OCS-G 14467, located 33 miles from the nearest Louisiana shoreline | 5/27/2011
Northstar Interests, L.C., Structure Removal, SEA ES/SR 11-145 & 11-146 | Eugene Island, Block 58, Lease OCS-G 02895, located 5 miles from the nearest Louisiana shoreline | 5/27/2011
BHP Billiton Petroleum (GOM) Inc., Development Operations Coordination Document, SEA R-5124 | Located south of Port Fourchon, Louisiana | 5/27/2011
Petsec Energy Inc., Structure Removal, SEA ES/SR 11-166 | Mobile, Block 952, Lease OCS-G 30026, located 9 miles from the nearest Alabama shoreline | 5/27/2011
Merit Energy Company, LLC, Structure Removal, SEA ES/SR 11-059 | Matagorda Island, Block 487, Lease OCS-G 07194, located 12 miles from the nearest Texas shoreline | 5/31/2011
Mariner Energy, Inc., Structure Removal, SEA ES/SR 11-175 | Vermilion, Block 144, Lease OCS-G 23819, located 20 miles from the nearest Louisiana shoreline | 5/31/2011
Newfield Exploration Company, Exploration Plan, SEA R-5104 | Mississippi Canyon, Block 390, located in the Central Planning Area, south of Mobile, Alabama, 65 miles from the nearest shoreline | 6/2/2011
Petsec Energy Inc., Structure Removal, SEA ES/SR 11-167 & 11-168 | Mobile, Block 953, Lease OCS-G 05756, located 23 miles from the Mississippi shoreline | 6/2/2011
Apache Corporation, Structure Removal, SEA ES/SR 11-163 | South Pass, Block 52, RUE Lease OCS-G 23698, located 10 miles from the nearest Louisiana shoreline | 6/2/2011
Chevron U.S.A. Inc., Structure Removal, SEA ES/SR 07-056B | South Timbalier, Block 151, Lease 00463, located 32 miles from the nearest Louisiana shoreline | 6/2/2011
GOM Shelf LLC, Structure Removal, SEA ES/SR 11-108 | West Delta, Block 71, Lease OCS-G 00838, located 23 miles from the nearest Louisiana shoreline | 6/2/2011
Hess Corporation, Exploration Plan, SEA S-7438 | Green Canyon, Block 507, located south of Port Fourchon, Louisiana, 117 miles from the nearest Louisiana shoreline | 6/3/2011
Nexen Petroleum U.S.A., Inc., Exploration Plan, SEA R-5155 | Green Canyon, Block 872, Lease OCS-G 31762, located south of Port Fourchon, Louisiana, 134 miles from the nearest Louisiana shoreline | 6/7/2011
Hess Corporation, Exploration Plan, SEA N-9557 | Green Canyon, Block 69, 25 & 70, Lease OCS-G 33217, 28040 & 33218, respectively, located south of Isle Denieries, Louisiana, 80 miles from the nearest Louisiana shoreline | 6/8/2011
Marathon Oil Company, Geological & Geophysical Survey, SEA L11-005 | Located in the Central Planning Area of the Gulf of Mexico | 6/8/2011
Nexen Petroleum U.S.A. Inc., Exploration Plan, SEA R-5083 | Green Canyon, Block 504, Lease OCS-G 22968, located 108 miles from the nearest Louisiana shoreline, southwest of Port Fourchon, Louisiana | 6/9/2011
W & T Offshore, Inc., Structure Removal, SEA ES/SR 11-182 | Main Pass, Block 70, Lease OCS-G 09703, located 12 miles from the nearest Louisiana shoreline | 6/9/2011
Legacy Resources Co., L.P., Structure Removal, SEA ES/SR 11-180 | Main Pass, Block 92, Lease OCS-G 27198, located 30 miles from the nearest Louisiana shoreline | 6/9/2011
Nexen Petroleum U.S.A. Inc., Exploration Plan, SEA N-9520 | Green Canyon, Block 327 & 370, Lease OCS-G 26305 & 22944, respectively, located 97 miles from the nearest Louisiana shoreline, southwest of Port Fourchon, Louisiana | 6/10/2011
Chevron U.S.A. Inc., Exploration Plan, SEA R-5200 | Keathley Canyon, Block 785, located south of Louisiana in the Central Planning Area | 6/14/2011
Nexen Petroleum U.S.A., Inc., Exploration Plan, SEA S-7423 | Green Canyon, Block 243, Lease OCS-G 20051, located 90 miles from the nearest Louisiana shoreline, southwest of Port Fourchon, Louisiana | 6/15/2011
Chevron U.S.A. Inc., Exploration Plan, SEA R-5084 | Walker Ridge, Block 143, Lease OCS-G 21849, located 156 miles from the nearest Louisiana shoreline, southwest of Port Fourchon, Louisiana | 6/15/2011
McMoRan Oil & Gas LLC, Structure Removal, SEA ES/SR 10-098A | East Cameron, Block 330, Lease OCS-G 03540, located 102 miles from the nearest Louisiana shoreline | 6/16/2011
Nexen Petroleum U.S.A. Inc., Exploration Plan, SEA N-9525 | Green Canyon, Block 460, Lease OCS-G 22961, located 105 miles from the nearest Louisiana shoreline, southwest of Port Fourchon, Louisiana | 6/16/2011
Nexen Petroleum U.S.A. Inc., Exploration Plan, SEA N-9523 | Green Canyon, Block 549, Lease OCS-G 22977, located 110 miles from the nearest Louisiana shoreline, southwest of Port Fourchon, Louisiana | 6/16/2011
Petsec Energy Inc., Structure Removal, SEA ES/SR 11-190 & 11-191 | Main Pass, Block 20, Lease OCS-G 27195, located 26 miles from the nearest Louisiana shoreline | 6/16/2011
Maritech Resources, Inc., Structure Removal, SEA ES/SR 11-186 | South Timbalier, Block 277, Lease OCS-G 10853, located 54 miles from the nearest Louisiana shoreline | 6/16/2011
Nippon Oil Exploration U.S.A. Limited, Structure Removal, SEA ES/SR 11-016A | West Cameron, Block 534, Lease OCS-G 02226, located 96 miles from the nearest Louisiana shoreline | 6/16/2011
Nippon Oil Exploration U.S.A. Limited, Structure Removal, SEA ES/SR 11-014A | West Cameron, Block 587, Lease OCS-G 02021, located 109 miles from the nearest Louisiana shoreline | 6/16/2011
Fairways Offshore Exploration, Inc., Structure Removal, SEA ES/SR 11-179 | Galveston, Block 319, Lease RUE G 22060, located 26 miles from the nearest Texas shoreline | 6/17/2011
McMoRan Oil & Gas LLC, Structure Removal, SEA ES/SR 11-174 | High Island, South Addition, Block A536, Lease OCS-G 02697, located 80 miles from the nearest Texas shoreline | 6/17/2011
U.S. Army Corps of Engineers Willimington District, Geological & Geophysical Survey, SEA E11-002 | Located in the New River Inlet Area, 4 miles from the nearest shoreline, off the coast of North Carolina | 6/17/2011
SPN Resources, LLC, Structure Removal, SEA ES/SR 11-176 | Mobile, Block 861, Lease OCS-G 05062, located 7 miles from the nearest Alabama shoreline | 6/17/2011
ATP Oil & Gas Corporation, Structure Removal, SEA ES/SR 08-001A | Ship Shoal, Block 105, Lease OCS-G 09614, located 33 miles from the nearest Louisiana shoreline | 6/17/2011
Rooster Petroleum, LLC, Structure Removal, SEA ES/SR 04-153 | South Timbalier, Block 112, Lease OCS-G 10828, located 35 miles from the nearest Louisiana shoreline | 6/17/2011
Magnum Hunter Production, Inc., Structure Removal, SEA ES/SR 11-102 & 11-103 | South Timbalier, Block 264, Lease OCS-G 19832, located 51 miles from the nearest Louisiana shoreline | 6/17/2011
Rooster Petroleum, LLC, Structure Removal, SEA ES/SR 04-152 | South Timbalier, Block 99, Lease OCS-G 10825, located 35 miles from the nearest Louisiana shoreline | 6/17/2011
Rooster Petroleum, LLC, Structure Removal, SEA ES/SR 11-178 | Vermilion, Block 175, Lease OCS-G 07684, located 50 miles from the nearest Louisiana shoreline | 6/17/2011
Mariner Energy Resources, Inc., Structure Removal, SEA ES/SR 11-181 | Vermilion, Block 36, Lease OCS-G 01357, located 8 miles from the nearest Louisiana shoreline | 6/17/2011
Mariner Energy, Inc., Structure Removal, SEA ES/SR 11-104 | High Island, Block 197, Lease OCS-G 22238, located 26 miles from the nearest Louisiana shoreline | 6/20/2011
McMoRan Oil & Gas LLC, Structure Removal, SEA ES/SR 11-193 | South Marsh Island, Block 49, Lease OCS-G 00787, located 45 miles from the nearest Louisiana shoreline | 6/20/2011
Nippon Oil Exploration U.S.A. Limited, Structure Removal, SEA ES/SR 11-050 | West Cameron, Block 536, Lease OCS-G 04773, located 97 miles from the nearest Louisiana shoreline | 6/20/2011
Dynamic Offshore Resources, LLC, Structure Removal, SEA ES/SR 11-195 | Ship Shoal, Block 167, Lease OCS-G 00818, located 27 miles from the nearest Louisiana shoreline | 6/21/2011
Nexen Petroleum U.S.A. Inc., Structure Removal, SEA ES/SR 11-183 & 11-184 | West Delta, Block 45, Lease OCS 00138, located 20 miles from the nearest Louisiana shoreline | 6/21/2011
Northstar Offshore Energy Partners, LLC, Structure Removal, SEA ES/SR 11-139, 11-140, 11-141, 11-142, 11-143 & 11-144 | Eugene Island, Block 57, Lease OCS-G 02601, located 5 miles from the nearest Louisiana shoreline | 6/22/2011
Chevron U.S.A. Inc., Exploration Plan, SEA R-5111 | Garden Banks, Block 973, Lease OCS-G 32911, located 185 miles from the nearest Louisiana shoreline, southwest of Port Fourchon, Louisiana | 6/22/2011
Chevron U.S.A., Inc., Exploration Plan, SEA R-5108 | Walker Ridge, Blocks 758, 715 & 759, Lease OCS-G 17015, 17010 & G 17016, respectively, located 195 miles from the nearest Louisiana shoreline, south of Morgan City, Louisiana | 6/22/2011
Union Oil Company of California, Exploration Plan, SEA R-5109 | Walker Ridge, Block 634 & 677, Lease OCS-G 18745 & 18753, respectively, located 182 miles from the nearest Louisiana shoreline, southwest of Port Fourchon, Louisiana | 6/23/2011
Apache Deepwater LLC, Exploration Plan, SEA N-9549 | Atwater Valley, Blocks 76 & 120, Lease OCS-G 33866 & 33867, respectively, located 80 miles from the nearest Louisiana shoreline, southwest of Venice, Louisiana | 6/24/2011
Pisces Energy LLC, Structure Removal, SEA ES/SR 11-098, 11-099 & 11-100 | Eugene Island, Block 042, Lease OCS-G 04858, located 15 miles from the nearest Louisiana shoreline | 6/24/2011
Arena Offshore, LP, Structure Removal, SEA ES/SR 11-198 | Grand Isle, Block 34, Lease OCS-G 21686, located 11 miles from the nearest Louisiana shoreline | 6/24/2011
Merit Energy Company, LLC, Structure Removal, SEA ES/SR 11-148 | High Island, Block A340, Lease OCS-G 02426, located 100 miles from the nearest Louisiana shoreline | 6/24/2011
Carteret County Shore Protection Office North Carolina, Geological & Geophysical Survey, SEA E11-001 | Located in the Beaufort Inlet Area, 4 miles from the nearest shoreline, off the coast of North Carolina | 6/24/2011
Merit Energy Company, LLC, Structure Removal, SEA ES/SR 11-204 & 11-205 | South Marsh Island, Block 253, Lease OCS-G 08690, located 17 miles from the nearest Louisiana shoreline | 6/24/2011
Maritech Resources, Inc., Structure Removal, SEA ES/SR 11-187 | Vermilion, Block 252, Lease OCS-G 05431, located 78 miles from the nearest Louisiana shoreline | 6/24/2011
Statoil Gulf of Mexico LLC, Exploration Plan, SEA R-5112 | Walker Ridge, Block 969 & 925, Lease OCS-G 26419 & 26416, respectively, located 217 miles from the nearest Louisiana shoreline, south of Morgan City, Louisiana | 6/24/2011
Apache Corporation, Structure Removal, SEA ES/SR 11-156, 11-157 & 11-158 | West Cameron, Block 102, Lease OCS-G 00247, located 14 miles from the nearest Louisiana shoreline | 6/24/2011
Merit Energy Company, LLC, Structure Removal, SEA ES/SR 11-202 | Mustang Island, Block 858, Lease OCS-G 12421, located 11 miles from the nearest Texas shoreline | 6/27/2011
EOG Resources, Inc., Structure Removal, SEA ES/SR 11-172 | Mustang Island, Block 759, Lease OCS-G 14103, located 28 miles from the nearest Texas shoreline | 6/28/2011
Anglo-Suisse Offshore Partners, LLC, Structure Removal, SEA ES/SR 06-115A | West Delta, Block 117, Lease OCS-G 01101, located 34 miles from the nearest Louisiana shoreline | 6/28/2011
Merit Energy Company, LLC, Structure Removal, SEA ES/SR 11-199, 11-200 & 11-201 | East Cameron, Block 57, Lease OCS-G 03289, located 13 miles from the nearest Louisiana shoreline | 6/30/2011
McMoRan Oil & Gas LLC, Structure Removal, SEA ES/SR 11-194 | Eugene Island, Block 179, RUE Lease OCS-G 30072, located 45 miles from the nearest Louisiana shoreline | 6/30/2011
Chevron U.S.A. Inc., Structure Removal, SEA ES/SR 99-092A | South Marsh Island, Block 218, Lease OCS-G 00310, located 8 miles from the nearest Louisiana shoreline | 6/30/2011
The Houston Exploration Company, Structure Removal, SEA ES/SR 07-100A | South Marsh Island, Block 252, Lease OCS-G 02598, located 14 miles from the nearest Louisiana shoreline | 6/30/2011
Nexen Petroleum U.S.A. Inc., Structure Removal, SEA ES/SR 11-047 | Vermilion, Block 302, Lease OCS-G 03138, located 110 miles from the nearest Louisiana shoreline | 6/30/2011
Hilcorp Energy GOM, LLC, Structure Removal, SEA ES/SR 11-169 & 11-170 | West Cameron, Block 643, Lease OCS-G 02241, located 128 miles from the nearest Louisiana shoreline | 6/30/2011

Persons interested in reviewing environmental documents for the proposals listed above or obtaining information about SEAs and FONSIs prepared by the Gulf of Mexico OCS Region are encouraged to contact BOEMRE at the address or telephone listed in the FOR FURTHER INFORMATION CONTACT section.

Dated: August 4, 2011.
Lars Herbst,
Regional Director, Gulf of Mexico OCS Region.

[FR Doc. 2011-22592 Filed 9-1-11; 8:45 am]

BILLING CODE 4310-MR-P